DEPARTMENT OF HOMELAND SECURITY

[Docket No. DHS-2014-0036]

National Infrastructure Advisory Council

AGENCY: National Protection and Programs Directorate, DHS.

ACTION: Committee Management; Notice of an Open Federal Advisory Committee Meeting.

SUMMARY: The National Infrastructure Advisory Council (NIAC) will meet Friday, September 5, 2014, at the Navy League of the United States Building, 2300 Wilson Boulevard, Suite 100, Arlington, VA 22201. The meeting will be open to the public.

DATES: The NIAC will meet on Friday, September 5, 2014, from 1:30 p.m. to 4:30 p.m. The meeting may close early if the council has completed its business. For additional information, please consult the NIAC Web site, www.dhs.gov/NIAC, or contact the NIAC Secretariat by phone at (703) 235-2888 or by email at NIAC@hq.dhs.gov.

ADDRESSES: Navy League of the United States Building, 2300 Wilson Boulevard, Suite 100, Arlington, VA 22201. For information on facilities or services for individuals with disabilities, or to request special assistance at the meeting, contact the person listed under FOR FURTHER INFORMATION CONTACT below as soon as possible.

To facilitate public participation, we are inviting public comment on the issues to be considered by the Council as listed in the “Summary” section below. Comments must be submitted in writing no later than 12:00 p.m. on September 2, 2014, must be identified by “DHS-2014-0036,” and may be submitted by any one of the following methods:

• Federal eRulemaking Portal: www.regulations.gov. Follow the instructions for submitting written comments.

• Email: NIAC@hq.dhs.gov. Include the docket number in the subject line of the message.

• Fax: (703) 603-5098.

• Mail: Nancy Wong, National Protection and Programs Directorate, Department of Homeland Security, 245 Murray Lane SW., Mail Stop 0607, Arlington, VA 20598-0607.

Instructions: All written submissions received must include the words “Department of Homeland Security” and the docket number for this action. Written comments received will be posted without alteration at www.regulations.gov, including any personal information provided.

Docket: For access to the docket to read background documents or comments received by the NIAC, go to www.regulations.gov.

Members of the public will have an opportunity to provide oral comments on the Transportation Resilience Working Group study and on Senior Executive/Chief Executive Officer (CEO) Engagement and Summary of the National Infrastructure Protection Plan 2013: Partnering for Critical Infrastructure Security and Resilience (NIPP 2013). We request that comments be limited to the issues listed in the meeting agenda and previous NIAC studies. All previous NIAC studies can be located at www.dhs.gov/NIAC. Public comments may be submitted in writing or presented in person for the Council to consider. Comments received by Nancy Wong after 12:00 p.m. on September 2, 2014, will still be accepted and reviewed by the members, but not necessarily by the time of the meeting. In-person presentations will be limited to three minutes per speaker, with no more than 15 minutes for all speakers. Parties interested in making in-person comments should register on the Public Comment Registration list available at the meeting location no later than 15 minutes prior to the beginning of the meeting.

FOR FURTHER INFORMATION CONTACT: Nancy Wong, National Infrastructure Advisory Council Designated Federal Officer, Department of Homeland Security, (703) 235-2888.

SUPPLEMENTARY INFORMATION: Notice of this meeting is given under the Federal Advisory Committee Act, 5 U.S.C. App. (Pub. L. 92-463). The NIAC shall provide the President, through the Secretary of Homeland Security, with advice on the security and resilience of the Nation's critical infrastructure sectors.

The NIAC will meet to discuss issues relevant to critical infrastructure security and resilience as directed by the President. At this meeting, the committee will receive and discuss a presentation from the Transportation Resilience Working Group documenting their work to date on a study reviewing the Transportation Sector's resilience against potentially disruptive events. The committee will also receive a working group update on the development of recommendations for an Executive Summary of the National Infrastructure Plan 2013, targeted for use by Senior Executive Level/CEO critical infrastructure owners and operators and a communication strategy with this target community. Both presentations will be posted no later than one week prior to the meeting on the council's public Web page— www.dhs.gov/NIAC. The council will review and discuss the presentations, and determine a path forward on each initiative.

Meeting Agenda

I. Opening of Meeting

II. Roll Call of Members

III. Opening Remarks and Introductions

IV. Approval of Meeting Minutes

V. Working Group Presentation on Transportation Resilience Study, Path Forward to Execute Study

VI. Working Group Presentation on Status, and Refinement of Path Forward of Government Requested Recommendation on Senior Executive/CEO Engagement and Executive Summary of the NIPP 2013

VII. Public Comment: Topics Limited to Transportation Resilience Study; Senior Executive/CEO Engagement and Executive Summary of NIPP 2013; and Previously Issued NIAC Studies and Recommendations

VIII. Discussion and Deliberations by Council on Presentations and Paths Forward of Working Groups

IX. Closing Remarks

Nancy Wong,
Designated Federal Officer for the NIAC.

[FR Doc. 2014-18871 Filed 8-8-14; 8:45 am]

BILLING CODE 9110-9P-P